DEPARTMENT OF ENERGY

Federal Energy Regulatory Commission

[Docket No. EC05-105-000, et al.]

La Paloma Acquisition Co, LLC, et al.; Electric Rate and Corporate Filings

August 12, 2005.

The following filings have been made with the Commission. The filings are listed in ascending order within each docket classification.

1. La Paloma Acquisition Co, LLC

[Docket No. EC05-105-000]

Take notice that on August 4, 2005, La Paloma Acquisition Co, LLC and Morgan Stanley & Co. Incorporated tendered for filing a withdrawal of the joint application filed July 15, 2005 in the above-referenced proceeding.

Comment Date: 5 p.m. eastern time on September 2, 2005.

2. Baja California Power, Inc.

[Docket No. EG05-89-000]

Take notice that on August 4, 2005, Baja California Power, Inc. filed with the Commission an application for determination of exempt wholesale generator status pursuant to Part 365 of the Commission's regulations.

Comment Date: 5 p.m. eastern time on August 25, 2005.

3. Louisiana Generating LLC

[Docket No. EG05-90-000]

Take notice that on August 4, 2005, Louisiana Generating LLC filed with the Commission an application for redetermination of exempt wholesale generator status pursuant to part 365 of the Commission's regulations.

Comment Date: 5 p.m. eastern time on August 25, 2005.

4. San Diego Gas & Electric Company v. Sellers of Energy and Ancillary Services Into Markets Operated by the California Independent System Operator and the California Power Exchange Corporation; Investigation of Practices of the California Independent System Operator Corporation and the California Power Exchange

[Docket No. EL00-95-135; EL00-98-122]

Take notice that on August 5, 2005, the California Independent System Operator Corporation (CAISO) tendered for filing a compliance filing made pursuant to the Commission July 5, 2005 Order issued in the above proceeding, 112 FERC ¶ 61,024 (2005). CAISO is proposing a new section 2.3.3.1.1. to the ISO Tariff and section 1.3.4. to the Outage Coordination Protocol.

CAISO states that this filing has been served upon the Public Utilities Commission, the California Energy Commission the California Electricity Oversight Board, and all parties with effective Scheduling Coordinator Agreements under the CAISO Tariff, as well as all parties of the record in the above-captioned proceeding.

Comment Date: 5 p.m. eastern time on September 6, 2005.

5. Occidental Chemical Corporation v. PJM Interconnection, L.L.C. and Delmarva Power & Light Company

[Docket No. EL02-121-008]

Take notice that on August 4, 2005, PJM Interconnection, L.L.C. tendered for filing a refund report in compliance with the Commission's Order issued March 29, 2005, 110 FERC ¶ 61,378 (2005).

Comment Date: 5 p.m. eastern time on September 2, 2005.

6. Town of Norwood, Massachusetts v. National Grid USA, New England Electric System, Massachusetts Electric Company, and Narragansett Electric Light Company

[Docket No. EL03-37-002]

Take notice that on August 3, 2005, National Grid USA, on behalf of itself and its subsidiary New England Power Company (NEP), tendered for filing a compliance report informing the Commission of the manner in which it has recalculated the balance owed to NEP from the Town of Norwood, as ordered by the Commission in the order issued on July 22, 2005, 112 FERC ¶ 61,099 (2005).

Comment Date: 5 p.m. eastern time on September 2, 2005.

7. PJM Interconnection, L.L.C.

[Docket No. EL03-236-008]

Take notice that on August 4, 2005, PJM Interconnection, L.L.C. (PJM) submitted revisions to the PJM Open Access Transmission Tariff and the PJM Amended and Restated Operating Agreement in compliance with the Commission's Order issued July 5, 2005 in PJM Interconnection, L.L.C., 112 FERC ¶ 61,031 (2005).

PJM states that copies of this filing have been served on all PJM members, each entity designated on the official service list compiled by the Secretary in this proceeding and each State electric utility regulatory commission in the PJM region.

Comment Date: 5 p.m. eastern time on September 2, 2005.

Standard Paragraph

Any person desiring to intervene or to protest in any of the above proceedings must file in accordance with Rules 211 and 214 of the Commission's Rules of Practice and Procedure (19 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-4538 Filed 8-18-05; 8:45 am]

BILLING CODE 6717-01-P